DEPARTMENT OF THE INTERIOR

National Park Service

Meeting of Concessions Management Advisory Board

AGENCY: National Park Service, DOI.

ACTION: Notice of Meeting of Concessions Management Advisory Board.

SUMMARY: In accordance with the Federal Advisory Committee Act (Pub. L. 92-463, 86 Stat. 770, 5 U.S.C. App 1, section 10), notice is hereby given that the Concessions Management Advisory Board will hold its second meeting April 11 through April 13, 2000, in San Francisco, California. The meeting will convene at 8:30 a.m. on Tuesday, April 11 at the Golden Gate Club located in Building 135, Fisher Loop at the Presidio. The Board will adjourn at approximately 4:00 p.m. on Thursday, April 13.

SUPPLEMENTARY INFORMATION: The Advisory Board was established by Title IV, Section 409 of the National Park Omnibus Management Act of 1998, November 13, 1998 (Pub. L. 105-391). The purpose of the Board is to advise the Secretary and the National Park Service on matters relating to management of concessions in the National Park System.

Topics for discussion during this meeting include:

• Welcome; Objectives of meeting.

• Overview of various business ventures and programs at the Presidio and Golden Gate NRA.

• Review of NPS Rate Approval Procedures.

• Discussion of Department of Defense “Best Practices” Review.

• Closing remarks (including summary of accomplishments of meeting, date of next proposed meeting, assignment of tasks).

The Board will also discuss its organizational and administrative needs.

The meeting will be open to the public, however, facilities and space for accommodating members of the public are limited, and persons will be accommodated on a first-come-first-served basis.

Assistance to Individuals With Disabilities at the Public Meeting

The meeting site is accessible to individuals with disabilities. If you plan to attend and will need an auxiliary aid or service to participate in the meeting (e.g., interpreting service, assistive listening device, or materials in an alternate format), notify the contact person listed in this notice at least 2 weeks before the scheduled meeting date. Attempts will be made to meet any request(s) we receive after that date, however, we may not be able to make the requested auxiliary aid or service available because of insufficient time to arrange for it.

Anyone may file with the Board a written statement concerning matters to be discussed. The Board may also permit attendees to address the Board, but may restrict the length of the presentations, as necessary to allow the Board to complete its agenda within the allotted time.

Interested persons may make oral/written presentations to the Commission during the business meeting or file written statements. Such requests should be made to the Director, National Park Service, attention: Manager, Concession Program Division, at least 7 days prior to the meeting. Further information concerning the meeting may be obtained from National Park Service, Concession Program Division, 1849 C St. NW, Rm. 7313, Washington, DC 20240, telephone 202/565-1210.

Draft minutes of the meeting will be available for public inspection about 8 weeks after the meeting, in room 7313, Main Interior Building, 1849 C Street, NW, Washington, DC.

Dated: March 17, 2000.
Robert Stanton,
Director, National Park Service.

[FR Doc. 00-7272 Filed 3-23-00; 8:45 am]

BILLING CODE 4310-70-P